DEPARTMENT OF HEALTH AND HUMAN SERVICES

Administration for Children and Families

[CFDA Number: 93.568]

Reallotment of Fiscal Year 2016 Funds for the Low Income Home Energy Assistance Program (LIHEAP)

AGENCY: Division of Energy Assistance, Office of Community Services (OCS), Administration for Children and Families (ACF), U.S. Department of Health and Human Services (HHS).

ACTION: Notice of determination concerning funds available for reallotment.

SUMMARY: Notice is hereby given of a preliminary determination that funds from the fiscal year (FY) 2016 Low Income Home Energy Assistance Program (LIHEAP) are available for reallotment to states, territories, tribes, and tribal organizations that received FY 2017 direct LIHEAP grants. No subgrantees or other entities may apply for these funds.

DATES: Submit comments on or before July 19, 2017.

ADDRESSES: Comments may be submitted to: J. Janelle George, Acting Director, Office of Community Services, 330 C Street SW., 5th Floor, Mail Room 5425, Washington, DC 20201.

FOR FURTHER INFORMATION CONTACT: Lauren Christopher, Director, Division of Energy Assistance, Office of Community Services, 330 C Street SW., 5th Floor, Mail Room 5425, Washington, DC 20201; telephone (202) 401-4870; email: lauren.christopher@acf.hhs.gov.

SUPPLEMENTARY INFORMATION: Section 2607(b)(1) of the Low Income Home Energy Assistance Act (the Act), (42 U.S.C. 8626(b)(1)) requires that, if the Secretary of HHS determines that, as of September 1 of any fiscal year, an amount in excess of 10 percent of the amount awarded to a grantee for that fiscal year (excluding Leveraging and REACH funds) will not be used by the grantee during that fiscal year, then the Secretary must notify the grantee and publish a notice in the Federal Register that such funds may be reallotted to LIHEAP grantees during the following fiscal year. If reallotted, the LIHEAP block grant allocation formula will be used to distribute the funds. No funds may be allotted to entities that are not direct LIHEAP grantees during FY 2017.

It has been determined that $3,253,866 in LIHEAP funds may be available for reallotment during FY 2017. This determination is based on FY 2016 Carryover and Reallotment Reports, which showed that 15 grantees reported reallotment funds (State of Arkansas, Association of Village Council Presidents, Cocopah Tribe of Arizona, Eastern Band of Cherokee Indians, State of Georgia, Hoh Indian Tribe, Kalispel Indian Community of the Kalispel Reservation, Oglala Sioux Tribe, Passamaquoddy Tribe at Pleasant Point, Poarch Band of Creeks, Quinault Indian Nation, Sault Ste. Marie Tribe of Chippewa Indians, The Chickasaw Nation, Three Affiliated Tribes of the Ft. Berthold Reservation, and the State of Vermont). Grantees submitted the FY 2016 Carryover and Reallotment Reports to OCS, as required by regulations applicable to LIHEAP at 45 CFR 96.81(b).

The LIHEAP statute allows grantees who have funds unobligated at the end of the federal fiscal year for which they are awarded to request that they be allowed to carry over up to 10 percent of their full-year allotments to the next federal fiscal year. Funds in excess of this amount must be returned to HHS and are subject to reallotment under section 2607(b)(1) of the Act (42 U.S.C. 8626(b)(1)). The amount described in this notice was reported by grantees as unobligated FY 2016 funds in excess of the amount that these grantees could carry over to FY 2017.

In accordance with section 2607(b)(3) of the Act (42 U.S.C. 8626(b)(3)), comments will be accepted for a period of 30 days from the date of publication of this notice.

After considering any comments submitted, all current LIHEAP grantees will be notified of the final reallotment amount redistributed to them for obligation in FY 2017. This decision will be published in an Information Memorandum that gets posted to ACF's Web site.

If funds are reallotted, they will be allocated in accordance with section 2604 of the Act (42 U.S.C. 8623) and must be treated by LIHEAP grantees receiving them as an amount appropriated for FY 2017. As FY 2017 funds, they will be subject to all requirements of the Act, including section 2607(b)(2) (42 U.S.C. 8626(b)(2)), which requires that a grantee obligate at least 90 percent of its total block grant allocation for a fiscal year by the end of the fiscal year for which the funds are appropriated, that is, by September 30, 2017.

Estimated Reallotment Amounts of FY 2016 LIHEAP Funds
Grantee name | Reallotment amount
Arkansas | $726,214
Association of Village Council Presidents | 169,410
Cocopah Tribe of Arizona | 18
Eastern Band of Cherokee Indians | 18,728
Georgia | 1,035,739
Hoh Indian Tribe | 1,907
Kalispel Indian Community of the Kalispel Reservation | 1,558
Oglala Sioux Tribe | 23,396
Passamaquoddy Tribe at Pleasant Point | 107
Poarch Band of Creeks | 70,819
Quinault Indian Nation | 4,091
Sault Ste. Marie Tribe of Chippewa Indians | 4
The Chickasaw Nation | 195,952
Three Affiliated Tribes of the Ft. Berthold Reservation | 348,035
Vermont | 657,888
Total | 3,253,866

Statutory Authority: 42 U.S.C. 8626.

Elizabeth Leo,
Grants Policy Specialist, Division of Grants Policy, Office of Administration.

[FR Doc. 2017-12675 Filed 6-16-17; 8:45 am]

BILLING CODE 4184-80-P